DEPARTMENT OF TRANSPORTATION

Federal Aviation Administration

14 CFR Part 39

[Docket No. FAA-2006-23649; Directorate Identifier 2006-CE-08-AD; Amendment 39-14542; AD 2006-07-15]

RIN 2120-AA64

Airworthiness Directives; Thrush Aircraft, Inc. Model 600 S2D and S2R (S-2R) Series Airplanes

Correction

In rule document 06-3162 beginning on page 16691 in the issue of Tuesday, April 4, 2006, make the following correction:

§ 39.13 [Corrected]

On page 16694, in § 39.13, in Table 3, under “(iii) Eddy Current inspection”, in the second column, “350 hours TIS” should be moved to the third column.

[FR Doc. C6-3162 Filed 4-14-06; 8:45 am]

BILLING CODE 1505-01-D